DEPARTMENT OF COMMERCE

International Trade Administration

Initiation of Five-Year (Sunset) Reviews

AGENCY: Enforcement and Compliance, International Trade Administration, Department of Commerce.

ACTION: Notice.

SUMMARY: In accordance with the Tariff Act of 1930, as amended (the Act), the Department of Commerce (Commerce) is automatically initiating the five-year reviews (Sunset Reviews) of the antidumping and countervailing duty (AD/CVD) order(s) listed below. The International Trade Commission (the Commission) is publishing concurrently with this notice its notice of Institution of Five-Year Reviews which covers the same order(s).

DATES: Applicable January 1, 2019.¹

¹ Commerce exercised its discretion to toll all deadlines affected by the partial federal government closure from December 22, 2018, through the resumption of operations on January 29, 2019. See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. Accordingly, this notice is issued within that 40-day tolling period.

FOR FURTHER INFORMATION CONTACT: Commerce official identified in the Initiation of Review section below at AD/CVD Operations, Enforcement and Compliance, International Trade Administration, U.S. Department of Commerce, 1401 Constitution Avenue NW, Washington, DC 20230. For information from the Commission contact Mary Messer, Office of Investigations, U.S. International Trade Commission at (202) 205-3193.

SUPPLEMENTARY INFORMATION:

Background

Commerce's procedures for the conduct of Sunset Reviews are set forth in its Procedures for Conducting Five-Year (Sunset) Reviews of Antidumping and Countervailing Duty Orders, 63 FR 13516 (March 20, 1998) and 70 FR 62061 (October 28, 2005). Guidance on methodological or analytical issues relevant to Commerce's conduct of Sunset Reviews is set forth in Antidumping Proceedings: Calculation of the Weighted-Average Dumping Margin and Assessment Rate in Certain Antidumping Duty Proceedings; Final Modification, 77 FR 8101 (February 14, 2012).

Initiation of Review

In accordance with section 751(c) of the Act and 19 CFR 351.218(c), we are initiating the Sunset Reviews of the following antidumping and countervailing duty order(s):

DOC Case No. | ITC Case No. | Country | Product | Commerce contact
A-570-865 | 731-TA-899 | China | Certain Hot-Rolled Carbon Steel Flat Products (3rd Review) | Matthew Renkey (202) 482-2312.
A-570-912 | 731-TA-1117 | China | New Pnematic Off-The Road Tires (2nd Review) | Joshua Poole (202) 482-1293.
C-570-913 | C-570-913 | China | New Pnematic Off-The Road Tires (2nd Review) | Jacqueline Arrowsmith (202) 482-5255.
A-570-875 | 731-TA-990 | China | Non-Malleable Cast Iron Pipe Fitting (3rd Review) | Joshua Poole (202) 482-1293.
A-570-922 | 731-TA-1129 | China | Raw Flexible Magnets (2nd Review) | Joshua Poole (202) 482-1293.
C-570-923 | 701-TA-452 | China | Raw Flexible Magnets (2nd Review) | Joshua Poole (202) 482-1293.
A-570-925 | 731-TA-1136 | China | Sodium Nitrite (2nd Review) | Joshua Poole (202) 482-1293.
C-570-926 | 701-TA-453 | China | Sodium Nitrite (2nd Review) | Joshua Poole (202) 482-1293.
A-428-841 | 731-TA-1137 | Germany | Sodium Nitrite (2nd Review) | Joshua Poole (202) 482-1293.
A-533-820 | 731-TA-900 | India | Certain Hot-Rolled Carbon Steel Flat Products (3rd Review) | Joshua Poole (202) 482-1293.
C-533-821 | 701-TA-405 | India | Certain Hot-Rolled Carbon Steel Flat Products (3rd Review) | Joshua Poole (202) 482-1293.
A-560-812 | 731-TA-901 | Indonesia | Certain Hot-Rolled Carbon Steel Flat Products (3rd Review) | Joshua Poole (202) 482-1293.
C-560-813 | 701-TA-406 | Indonesia | Certain Hot-Rolled Carbon Steel Flat Products (3rd Review) | Joshua Poole (202) 482-1293.
A-583-835 | 731-TA-906 | Taiwan | Certain Hot-Rolled Carbon Steel Flat Products (3rd Review) | Jacqueline Arrowsmith (202) 482-5255.
A-583-842 | 731-TA-1130 | Taiwan | Raw Flexible Magnets (2nd Review) | Joshua Poole (202) 482-1293.
A-549-817 | 731-TA-907 | Thailand | Certain Hot-Rolled Carbon Steel Flat Products (3rd Review) | Jacqueline Arrowsmith (202) 482-5255.
C-549-818 | 701-TA-408 | Thailand | Certain Hot-Rolled Carbon Steel Flat Products (3rd Review) | Jacqueline Arrowsmith (202) 482-5255.
A-823-811 | 731-TA-908 | Ukraine | Certain Hot-Rolled Carbon Steel Flat Products (3rd Review) | Jacqueline Arrowsmith (202) 482-5255.

With respect to the countervailing duty order on Sodium Nitrate from China (C-570-926), we have advanced the initiation date of this Sunset Review upon determining that initiation of the Sunset Reviews for the Sodium Nitrate antidumping and countervailing duty orders on the same date would promote administrative efficiency.

Filing Information

As a courtesy, we are making information related to sunset proceedings, including copies of the pertinent statute and Commerces's regulations, Commerce's schedule for Sunset Reviews, a listing of past revocations and continuations, and current service lists, available to the public on Commerce's website at the following address: http://enforcement.trade.gov/sunset/. All submissions in these Sunset Reviews must be filed in accordance with Commerce's regulations regarding format, translation, and service of documents. These rules, including electronic filing requirements via Enforcement and Compliance's Antidumping and Countervailing Duty Centralized Electronic Service System (ACCESS), can be found at 19 CFR 351.303.²

² See also Antidumping and Countervailing Duty Proceedings: Electronic Filing Procedures; Administrative Protective Order Procedures, 76 FR 39263 (July 6, 2011).

Any party submitting factual information in an AD/CVD proceeding must certify to the accuracy and completeness of that information.³ Parties must use the certification formats provided in 19 CFR 351.303(g).⁴ Commerce intends to reject factual submissions if the submitting party does not comply with applicable revised certification requirements.

³ See section 782(b) of the Act.

⁴ See also Certification of Factual Information to Import Administration During Antidumping and Countervailing Duty Proceedings, 78 FR 42678 (July 17, 2013) (Final Rule). Answers to frequently asked questions regarding the Final Rule are available at http://enforcement.trade.gov/tlei/notices/factual_info_final_rule_FAQ_07172013.pdf.

On April 10, 2013, Commerce modified two regulations related to AD/CVD proceedings: the definition of factual information (19 CFR 351.102(b)(21)), and the time limits for the submission of factual information (19 CFR 351.301).⁵ Parties are advised to review the final rule, available at http://enforcement.trade.gov/frn/2013/1304frn/2013-08227.txt, prior to submitting factual information in these segments. To the extent that other regulations govern the submission of factual information in a segment (such as 19 CFR 351.218), these time limits will continue to be applied. Parties are also advised to review the final rule concerning the extension of time limits for submissions in AD/CVD proceedings, available at http://enforcement.trade.gov/frn/2013/1309frn/2013-22853.txt, prior to submitting factual information in these segments.⁶

⁵ See Definition of Factual Information and Time Limits for Submission of Factual Information: Final Rule, 78 FR 21246 (April 10, 2013).

⁶ See Extension of Time Limits, 78 FR 57790 (September 20, 2013).

Letters of Appearance and Administrative Protective Orders

Pursuant to 19 CFR 351.103(d), Commerce will maintain and make available a public service list for these proceedings. Parties wishing to participate in any of these five-year reviews must file letters of appearance as discussed at 19 CFR 351.103(d)). To facilitate the timely preparation of the public service list, it is requested that those seeking recognition as interested parties to a proceeding submit an entry of appearance within 10 days of the publication of the Notice of Initiation. Because deadlines in Sunset Reviews can be very short, we urge interested parties who want access to proprietary information under administrative protective order (APO) to file an APO application immediately following publication in the Federal Register of this notice of initiation. Commerce's regulations on submission of proprietary information and eligibility to receive access to business proprietary information under APO can be found at 19 CFR 351.304-306.

Information Required From Interested Parties

Domestic interested parties, as defined in section 771(9)(C), (D), (E), (F), and (G) of the Act and 19 CFR 351.102(b), wishing to participate in a Sunset Review must respond not later than 15 days after the date of publication in the Federal Register of this notice of initiation by filing a notice of intent to participate. The required contents of the notice of intent to participate are set forth at 19 CFR 351.218(d)(1)(ii). In accordance with Commerce's regulations, if we do not receive a notice of intent to participate from at least one domestic interested party by the 15-day deadline, Commerce will automatically revoke the order without further review.⁷

⁷ See 19 CFR 351.218(d)(1)(iii).

If we receive an order-specific notice of intent to participate from a domestic interested party, Commerce's regulations provide that all parties wishing to participate in a Sunset Review must file complete substantive responses not later than 30 days after the date of publication in the Federal Register of this notice of initiation. The required contents of a substantive response, on an order-specific basis, are set forth at 19 CFR 351.218(d)(3). Note that certain information requirements differ for respondent and domestic parties. Also, note that

Commerce's information requirements are distinct from the Commission's information requirements. Consult Commerce's regulations for information regarding Commerce's conduct of Sunset Reviews. Consult Commerce's regulations at 19 CFR part 351 for definitions of terms and for other general information concerning antidumping and countervailing duty proceedings at Commerce.

This notice of initiation is being published in accordance with section 751(c) of the Act and 19 CFR 351.218(c).

Dated: January 31, 2019.
James Maeder,
Associate Deputy Assistant Secretary for Antidumping and Countervailing Duty Operations performing the duties of Deputy Assistant Secretary for Antidumping and Countervailing Duty Operations.

[FR Doc. 2019-01271 Filed 2-4-19; 8:45 am]

BILLING CODE 3510-DS-P